DEPARTMENT OF ENERGY

Federal Energy Regulatory Commission

[Project No. 4542-014]

Bacon Felt Company, Inc., Salmon Falls Power & Light Company, LLC; Notice of Transfer of Exemption

1. By letter filed August 12, 2013, Bacon Felt Company, Inc. informed the Commission that the exemption from licensing for the Boston Felt Project, FERC No. 4542, originally issued August 29, 1983,¹ has been transferred to Salmon Falls Power & Light Company, LLC. The project is located on the Salmon Falls River in Strafford County, New Hampshire. The transfer of an exemption does not require Commission approval.

¹ 24 FERC ¶ 62,240, Order Granting Exemption From Licensing of A Small Project of 5 Megawatts or Less.

2. Salmon Falls Power & Light Company, LLC, located at P.O. Box 9, South Casco, ME 04077, is now the exemptee of the Boston Felt Project, FERC No. 4542.

Dated: Issued February 3, 2014.
Kimberly D. Bose,
Secretary.

[FR Doc. 2014-02740 Filed 2-7-14; 8:45 am]

BILLING CODE 6717-01-P